DEPARTMENT OF TRANSPORTATION

Privacy Act of 1974; System of Records

AGENCY: Federal Aviation Administration, Department of Transportation.

ACTION: Rescindment of a system of records notice.

SUMMARY: In accordance with the Privacy Act of 1974, the Department of Transportation is proposing to retire a Department of Transportation system of records titled, “Department of Transportation/Federal Aviation Administration (DOT/FAA) 813 Civil Aviation Security System of Records.”

DATES: January 17, 2020.

ADDRESSES: You may submit comments, identified by docket number DOT-OST-2020-0007. by any of the following methods:

Federal e-Rulemaking Portal: http://www.regulations.gov. Follow the instructions for submitting comments. Mail: Docket Management Facility, U.S. Department of Transportation, 1200 New Jersey Ave. SE, West Building Ground Floor, Room W12-140, Washington, DC 20590-0001. Hand Delivery or Courier: West Building Ground Floor, Room W12-140, 1200 New Jersey Ave. SE, between 9 a.m. and 5 p.m. ET, Monday through Friday, except Federal Holidays. Fax: (202) 493-2251.

Instructions: You must include the agency name and docket number DOT-OST-2020-0007. All comments received will be posted without change to http://www.regulations.gov, including any personal information provided.

Privacy Act: Anyone is able to search the electronic form of all comments received in any of our dockets by the name of the individual submitting the comment (or signing the comment, if submitted on behalf of an association, business, labor union, etc.). You may review the DOT's complete Privacy Act statement in the Federal Register published on April 11, 2000 (65 FR 19477-78).

Docket: For access to the docket to read background documents or comments received, go to http://www.regulations.gov or to the street address listed above. Follow the online instructions for accessing the docket.

FOR FURTHER INFORMATION CONTACT: For general questions please contact: Essie L. Bell, FAA Chief Privacy Officer, Acting, 202. 385.6516, Federal Aviation Administration, 950 L'Enfant Plaza SW, Washington, DC 20024. For privacy issues please contact: Claire W. Barrett, Departmental Chief Privacy Officer, Privacy Office, Department of Transportation, Washington, DC 20590; privacy@dot.gov; or 202.527.3284.

SUPPLEMENTARY INFORMATION:

I. Background

In accordance with the Privacy Act of 1974, 5 U.S.C. 552a, the Department of Transportation (DOT)/Federal Aviation Administration (FAA) proposes to retire DOT system of records titled, “Department of Transportation/Federal Aviation Administration (DOT/FAA) 813 Civil Aviation Security System of Records.”

This system was originally established to collect and maintain records on hijacking or attempted hijacking incidents at airports or aboard civil aviation aircraft, information on K-9 assignments to airports, K-9 handler evaluations and information necessary to manage the Federal Air Marshals (FAM).

Following September 11, 2001 Congress passed the Aviation and Transportation Security Act (ATSA) (Pub. L. 107-71) which established the Transportation Security Administration (TSA). The ATSA transferred the TSA from the Department of Transportation to the Department of Homeland Security (DHS).

The ATSA transferred responsibility for civil aviation security from the FAA to TSA on February 22, 2002. A Transfer of Function Memo (October 30, 2003) from the FAA Assistant Administrator, Office of Security and Hazardous Materials, to the FAA Freedom of Information Staff and the Director of TSA, Freedom of Information Office, memorializes the transfer of function. The memo evidences that all records maintained in accordance with the DOT/FAA 813 Civil Aviation Security System of Records notice were transferred to the TSA. The FAA kept only duplicate copies of Civil Aviation Security records that related to the terrorist attacks of September 11, 2001, but no longer maintains these copies.

Retiring this FAA system of records notice will have no adverse impact on individuals because the records and functions were transferred from the FAA to TSA.

SYSTEM NAME AND NUMBER:

Department of Transportation/Federal Aviation Administration (DOT/FAA) 813 Civil Aviation Security System of Records

HISTORY:

A full notice of this system of records, DOT/FAA 813 Civil Aviation Security System, was last published in the Federal Register on April 11, 2000 (65 FR 19519).

Claire W. Barrett,
Departmental Chief Privacy Officer.

[FR Doc. 2020-00670 Filed 1-16-20; 8:45 am]

BILLING CODE 4910-9X-P